DEPARTMENT OF HEALTH AND HUMAN SERVICES

Health Resources and Services Administration

Notice of Supplemental Funding, Rural Health Innovation and Transformation Technical Assistance

AGENCY: Health Resources and Services Administration (HRSA), Department of Health and Human Services.

ACTION: Notice of supplemental funding.

SUMMARY: HRSA provided supplemental funds to the Rural Health Innovation and Transformation Technical Assistance (RHIT-TA) Cooperative Agreement.

FOR FURTHER INFORMATION CONTACT: Lawrencia Afagbedzi, Health Insurance Specialist, Federal Office of Rural Health Policy, HRSA, at lafagbedzi@hrsa.gov and 301-443-3196.

SUPPLEMENTARY INFORMATION:

Recipient of the Award: The University of Iowa.

Amount of Non-Competitive Award: One award for $150,000.

Project Period: August 1, 2023, to July 31, 2027.

Assistance Listing Number: 93.155.

Award Instrument: Cooperative Agreement Supplement.

Authority: Section 711 of the Social Security Act (42 U.S.C. 912).

Table 1—Recipient and Award Amount
Grant number | Award recipient name | City, state | Supplemental award amount
UB7RH25011 | University of Iowa | Iowa City, IA | $150,000

Justification: This funding provides a one-time supplement to the University of Iowa through the RHIT-TA Cooperative Agreement with a budget period of August 2025 through July 2026. This supplement allows the University of Iowa to build on past and ongoing projects supported by HRSA to support health care in rural areas by advancing the knowledge base regarding the unique considerations and barriers facing rural providers implementing value-based care and innovative payment models. The University of Iowa is the recipient of the only award under the RHIT-TA program and has established relationships with rural stakeholders and has longstanding experience developing resources related to rural value-based care. The supplement to the RHIT-TA Cooperative Agreement will allow the University of Iowa to provide additional technical assistance and develop additional resources to promote rural value-based care related activities.

Thomas J. Engels,
Administrator.

[FR Doc. 2025-19248 Filed 10-1-25; 8:45 am]

BILLING CODE 4165-15-P